DEPARTMENT OF THE INTERIOR

Fish and Wildlife Service

[FWS-R1-ES-2010-NXXX; 10120-1113-0000-F5]

Endangered Wildlife; Permits

AGENCY: Fish and Wildlife Service, Interior.

ACTION: Notice of availability of permit applications; request for comments.

SUMMARY: In accordance with the requirements of the Endangered Species Act of 1973, as amended (Act), we, the U.S. Fish and Wildlife Service (Service), invite the public to comment on applications for permits to conduct enhancement of survival activities with endangered species.

DATES: To ensure consideration, please send your written comments by October 8, 2010.

ADDRESSES: Program Manager, Endangered Species, Ecological Services, U.S. Fish and Wildlife Service, 911 NE. 11th Avenue, Portland, OR 97232-4181.

FOR FURTHER INFORMATION CONTACT: Linda Belluomini, Fish and Wildlife Biologist, at the above address or by telephone (503-231-6131) or fax (503-231-6243).

SUPPLEMENTARY INFORMATION: The following applicants have applied for a recovery permit to conduct certain activities with endangered species under section 10(a)(1)(A) of the Act (16 U.S.C. 1531 et seq.). We are soliciting review of and comments on these applications by local, State, and Federal agencies and the public.

Permit No. TE-02997A

Applicant: University of Hawaii, Hilo, Hawaii.

The applicant requests a permit to take (capture, handle, and release) Drosophila sharpi (formerly D. attigua) in conjuction with genetic research on non-listed Drosophila species on the island of Kauai in the State of Hawaii for the purpose of enhancing its propagation and survival.

Permit No. TE-702631

Applicant: Assistant Regional Director-Ecological Services, Region 1, U.S. Fish and Wildlife Service, Portland, Oregon.

The permittee requests a permit amendment to allow Service employees and their designated agents to remove/reduce to possession the following species in the State of Hawaii: Astelia waialealae (painiu), Canavalia napaliensis (awikiwiki), Chamaesyce eleanoriae (akoko), Chamaesyce remyi var. kauaiensis (akoko), Chamaesyce remyi var. remyi (akoko), Charpentiera densiflora (papala), Cyanea dolichopoda (haha) Cyanea eleeleensis (haha), Cyanea kolekoleensis (haha), Cyanea kuhihewa (haha), Cyrtandra oenobarba (haiwale), Cyrtandra paliku (haiwale), Diellia mannii (no common name [ncn]), Doryopteris angelica (ncn), Dryopteris crinalis var. podosorus (palapalai aumakua), Dubautia kalalauensis (naenae), Dubautia kenwoodii (naenae), Dubautia imbricata ssp. imbricata (naenae), Dubautia plantaginea ssp. magnifolia (naenae), Dubautia waialealae (naenae), Geranium kauaiense (nohoanu), Keysseria erici (ncn), Keysseria helenae (ncn), Labordia helleri (kamakahala), Labordia pumila (kamakahala), Lysimachia daphnoides (lehua makanoe), Lysimachia iniki (ncn), Lysimachia pendens (ncn), Lysimachia scopulensis (ncn), Lysimachia venosa (ncn), Melicope degeneri (alani), Melicope paniculata (alani), Melicope puberula (alani), Myrsine knudsenii (kolea), Myrsine mezii (kolea), Phyllostegia renovans (ncn), Pittosporum napaliense (hoawa), Platydesma rostrata (pilo kea lau li i), Pritchardia hardyi (loulu), Psychotria grandiflora (kopiko), Psychotria hobdyi (kopiko), Schiedea attenuata (ncn), Stenogyne kealiae (ncn), Tetraplasandra bisattenuata (ohe), and Tetraplasandra flynnii (ohe), all of the above species are endemic to the island of Kauai; to take the akikiki (Oreomystis bairdi), akekee (Loxops caeruleirostris), and the picture-wing fly (Drosophila sharpi(= D. attigua), all of which endemic to the island of Kauai; to take the flying earwig Hawaiian damselfly (Megalagrion nesiotes), which is endemic to the island of Maui; and to take the Pacific Hawaiian damselfly (Megalagrion pacificum), which is endemic to the islands of Hawaii, Maui, and Molokai. The purpose of these activities is to carry out recovery actions which will enhance the species' propagation and survival.

Public Comments

We are soliciting public review and comment on these recovery permit applications. Submit written comments to the Program Manager, Endangered Species (see address above). Before including your address, phone number, e-mail address, or other personal identifying information in your comment, you should be aware that your entire comment—including your personal identifying information—may be made publicly available at any time. While you can ask us in your comment to withhold your personal identifying information from public review, we cannot guarantee that we will be able to do so.

Please refer to the permit number for the application when submitting comments. All comments and materials we receive in response to this request will be available for public inspection, by appointment, during normal business hours at the above address.

Dated: August 6, 2010.
Theresa E. Rabot,
Acting Regional Director, Region 1, U.S. Fish and Wildlife Service.

[FR Doc. 2010-22372 Filed 9-7-10; 8:45 am]

BILLING CODE 4310-55-P